DEPARTMENT OF THE INTERIOR

Bureau of Indian Affairs

[167A2100DD/AAKC001030/A0A501010.999900 253G]

Grant Availability to Federally Recognized Indian Tribes To Implement Traffic Safety Programs and Projects on Indian Reservations

AGENCY: Bureau of Indian Affairs, Interior.

ACTION: Notice.

SUMMARY: This notice is intended to inform federally-recognized Indian Tribes of the application process and due date for the Indian Highway Safety Program for Fiscal Year 2017. In accordance with Federal law and as authorized by the Secretary of Transportation, the Bureau of Indian Affairs, through its Indian Highway Safety Program (IHSP), will make funds available to federally recognized Indian Tribes on an annual basis for implementing traffic safety programs and projects that are designed to reduce the number of traffic crashes, death, injuries and property damage within Indian country. All project applications received on or before the deadline will be reviewed and selected on a competitive basis.

DATES: IHSP mailed application packets to all Tribal leaders by February 15, 2016. Applications for program and/or project funds must be received on or before May 2, 2016. Applications not received by the IHSP by close of business on May 2, 2016, will not be considered and will be returned unopened.

ADDRESSES: Each Tribe must submit their application to the Bureau of Indian Affairs, Office of Justice Services, Attention: Indian Highway Safety Program Director, 1001 Indian School NE., Suite 251, Albuquerque, New Mexico 87104.

FOR FURTHER INFORMATION CONTACT: Tribes should direct questions or requests for copies of the application packet to: Kimberly Belone, Indian Highway Safety Program, 1001 Indian School NE., Suite 251, Albuquerque, New Mexico 87104; telephone (505) 563-3900.

SUPPLEMENTARY INFORMATION:

Background

The Federal-Aid Highway Act of 1973 (Pub. L. 93-87) provides for U.S. Department of Transportation (DOT) funding, through the National Highway Traffic Safety Administration (NHTSA) to assist Indian Tribes in implementing traffic safety projects. Any program or project request must be designed to reduce the number of motor vehicle traffic crashes and their resulting fatalities, injuries, and property damage on Indian reservations and within Indian communities. Motor vehicle crashes are the leading cause of death to American Indians/Alaska Natives for ages 1 to 44. Nationwide, 511 American Indians/Alaska Natives were killed in motor vehicle crashes in 2013. Of this total, 180 died on reservations. For additional American Indians/Alaska Natives fatality data, you can access the NHTSA fatality Web site at: http://www-nrd.nhtsa.dot.gov/departments/nrd-30/ncsa/STSI/NA_Report.htm.

This notice solicits applications from federally recognized Indian Tribes eligible to receive this assistance. Grant funds awarded to Tribes as a result of this announcement are reimbursed for eligible costs incurred under the terms of 23 U.S.C. 402 and subsequent amendments.

Responsibilities

For the purposes of application of this grant and the collection and distribution of the funds, Indian reservations are collectively considered a “State” and the Secretary of the Interior is considered the “Governor of a State.” The Secretary of the Interior delegated the authority to administer the programs for all the Indian Tribes in the United States to the Assistant Secretary—Indian Affairs. The Assistant Secretary—Indian Affairs further delegated the responsibility for administration of the Indian Highway Safety Program to the Bureau of Indian Affairs, Office of Justice Services, located in Albuquerque, New Mexico. The Program Director of the IHSP has staff members available to provide program and technical assistance to Indian Tribes. The IHSP maintains contact with NHTSA with respect to program approval, funding, and technical assistance. NHTSA is responsible for ensuring that the IHSP is carried out in accordance with 23 CFR part 1200 and other applicable Federal statutes and regulations.

National Priority Program Areas

The following highway safety program areas have been identified as priority program areas eligible for funding under 23 CFR 1200.11 on Tribal lands:

a. Impaired driving

b. Occupant protection

c. Traffic records

Other fundable program areas may be considered based upon well documented problem identification from the Tribes.

Indian Highway Safety Program Funding Areas

Proposals are being solicited for the following program areas:

1. Impaired Driving: Programs directed at reducing injuries and death attributed to impaired driving on the reservations such as: Selective traffic enforcement programs (STEP) to apprehend impaired drivers, specialized law enforcement training (such as standardized field sobriety testing), public information programs on alcohol/other drug use and driving, education programs for convicted DWI/DUI offenders, various youth alcohol education programs promoting traffic safety, DUI courts, and programs or projects directed toward judicial training. Proposals for projects that enhance the development and implementation of innovative programs to combat impaired driving are also solicited.

2. Occupant Protection: Programs directed at decreasing injuries and deaths attributed to the lack of safety belt and child restraint usage such as: Surveys to determine usage rates and to identify high-risk non-users, comprehensive programs to promote correct usage of child safety seats and other occupant restraints, enforcement of safety belt ordinances or laws, specialized training (e.g., Operation Kids, traffic occupant protection strategies (TOPS), Standardized Child Passenger Safety Technician Training), and evaluations.

3. Traffic Records: Programs to help Tribes develop or update electronic traffic records systems which will assist with analysis of crash information, causational factors, and support joint efforts with other agencies to improve the Tribe's traffic records system.

Project Guidelines

Each Tribe that would like to be considered for funding in FY 2017 must fill out and submit the project application that was mailed to the Tribal leaders. Applications will adhere to the following guidelines:

(1) Problem Identification. Highway traffic safety problems shall be based upon accurate Tribal data. Data should be complete and accurate and should show problems and/or trends. These data should be available in Tribal enforcement and traffic crash records.

(2) Goals, Performance Measures and Strategies. Tribes must provide the overall goals of the project as well as a list of performance measures and strategies to be used to evaluate performance. All goals, performance measures and strategies must have base line numbers and will be expressed in clearly defined, time-framed, and measurable terms. (Example: To decrease alcohol related motor vehicle crashes by _% from the 2015 number of __ to __ by the end of FY17). Performance measures should be aggressive but attainable and based on available data and trends.

(3) Training. Training identified in the application must relate directly to the project being proposed.

(4) Equipment. Any equipment identified in the application must relate directly to the project being proposed.

(5) Line Item Budget. The activities to be funded must be outlined in detail according to the following object groups: Personnel services; travel and training, operating costs and equipment. All Tribes applying for grants must attach a copy of the Tribe's indirect cost rate to the application.

(6) Funding Requirements. With the enactment of the Fixing America's Surface Transportation Act (FAST Act), the IHSP is required, in order to receive funds, to certify, on behalf of the Tribes, that the program will meet certain conditions and comply with all applicable rules and regulations for administering a highway safety program. In addition to program oversight and technical assistance, the BIA must certify that it will implement the following activities in support of national highway safety goals:

a. Participate in the national law enforcement mobilizations;

b. Encourage sustained enforcement of impaired driving, occupant protection and speeding;

c. Conduct an annual safety belt survey in accordance with criteria established by the Secretary to measure safety belt usage rates; and

d. Develop data systems to provide timely and effective data analysis to support allocation of highway traffic safety resources.

(7) In order to comply with the provisions of the FAST Act and the State Certifications and Assurances, the IHSP will allocate funds on behalf of the Tribes to implement the provisions listed in (6) above. Copies of the State Certifications and Assurances are available upon request or at: http://www.ecfr.gov/cgi-bin/text-idx?c=ecfr&rgn=div5&view=text&node=23:1.0.2.13.1&idno=23#ap23.1.1200_162.a.

(8) Funding Length. Traffic safety program funding is designed primarily as the source of invention and motivation. As a result, all projects are funded for a 12 month period of time. This program is not intended for long term financial support of continuing and on-going operations.

(9) Project monitoring length may exceed the grant period in the cases where distribution of purchase equipment is necessary.

Certifications

A list of certifications is attached to the grant application and must be initialed to show acceptance by the Tribe. These certifications are required by the either the funding agency and/or the IHSP and include: Federal Funding Accountability and Transparency Act, Nondiscrimination, Drug Free Workplace Act of 1988, Equipment, Buy America Act, Political Activity (Hatch Act), Federal Lobbying, Restriction of State Lobbying, Lower Tier Certification, and Policy to Ban Text Messaging While Driving.

Submission Deadline

Each Tribe must send its funding request on the appropriate application form to the BIA IHSP office in Albuquerque, New Mexico, by the close of business May 2, 2016. Request can be received by U.S. Mail or via email to: indian_highway_safety@bia.gov.

Selection Criteria

A selection committee will review and evaluate each application requesting funding. Each member of the selection committee, by assigning points to the following four criteria, will rank each of the proposals based on the following criteria:

Criterion (1), the General Information section will include information on the type of grant, location, population and size of reservation, type of law enforcement and pertinent contact information. (10 points maximum).

Criterion (2), the strength of the Problem Identification based on verifiable, current and applicable data to indicate the extent of the traffic safety problem. (45 points maximum).

Criterion (3), the quality of the proposed solution plan based on aggressive but attainable Performance Measures and Strategies. (35 points maximum).

Criterion (4), details on necessity and reasonableness of the budget requested. (10 points maximum).

Notification of the Selection

Once the selection committee concludes its evaluation, it will notify those Tribes it recommends for participation and funding by letter. Upon notification, each selected Tribe must provide a duly authorized Tribal resolution. The resolution must be on file before grants funds can be expended by or reimbursed to the Tribe.

Notification of Non-Selection

The Program Director will notify each Tribe of non-selection.

Uniform Administrative Requirements for Grant-In-Aid

Uniform grant administration procedures have been established on a national basis for all grant-in-aid programs by the Office of Management and Budget under 2 CFR part 200 “Uniform Administrative Requirements, Cost Principles, and Audit Requirements for Federal Awards” and the DOT under 2 CFR part 1201. NHTSA has codified uniform procedures for State Highway Safety Programs in 23 CFR part 1200. 2 CFR part 200 and the “Highway Safety Grant Funding Guidance for NHTSA Field Administered Grants are the established cost principles applicable to grants and contracts through BIA and with Tribal governments. A copy of the Grant Funding Policy document can be obtained from the BIA IHSP office or at http://www.nhtsa.gov/About+NHTSA/Highway+Safety+Grant+Programs/HSGrantFunding_Guidance#_Toc363830148. The BIA IHSP office has been established and is designated to establish operating procedures consistent with the applicable provisions of these rules and any others that govern these grant funds.

Auditing of Highway Safety Projects will be included in the Tribal A-133 single audit requirement. Copies of Tribal audits must be available for inspection by the highway safety program staff. Tribes must provide monthly program status reports and a corresponding reimbursement claim to the BIA Indian Highway Safety Program, 1001 Indian School, Suite 251, Albuquerque, New Mexico 87104, in order to be reimbursed for program costs. These are to be submitted no later than 15 working days beyond the reporting month.

Project Monitoring

During the program year, it is the responsibility of the BIA IHSP office to review the implementation of Tribal traffic safety plans and programs, monitor the progress of their activities and expenditures and provide technical assistance as needed. This assistance may be on-site, by telephone, and/or a review of monthly progress claims.

Project Evaluation

Each project funded is required to submit an annual report that meets the minimum criteria as set forth in 23 CFR part 1200.35. This information will be contained in the annual report that is required to be submitted to NHTSA. The BIA IHSP will conduct an annual performance evaluation for each Highway Safety Project funded. Pursuant to 23 CFR part 1200.35, the evaluation will measure the actual accomplishments to the planned activity and how the project and activities funded contributed to the overall goal of the IHSP. Program staff will evaluate progress from baseline data as reported by the Tribe. BIA IHSP staff will evaluate the project on-site at the discretion of the IHSP Director.

Dated: March 21, 2016.
Lawrence S. Roberts,
Acting Assistant Secretary—Indian Affairs.

[FR Doc. 2016-07634 Filed 4-1-16; 8:45 am]

BILLING CODE 4337-15-P